FEDERAL COMMUNICATIONS COMMISSION

Notice of Public Information Collection(s) Being Reviewed by the Federal Communications Commission, Comments Requested

May 20, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 27, 2004. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-XXXX.

Title: Bill for Collection.

Form No.: FCC Form 163.

Type of Review: New collection.

Respondents: Business or other for-profit.

Number of Respondents: 120,000.

Estimated Time Per Response: .25 hours (15 minutes).

Frequency of Response: On occasion reporting requirement.

Total Annual Burden: 30,000 hours.

Total Annual Cost: N/A.

Privacy Act Impact Assessment: N/A.

Needs and Uses: The FCC Form 163 is used by the Commission to bill entities for an unpaid fee. Such fees as: application fees, regulatory fees, fines and forfeiture payments, freedom of information requests, international telecommunications settlements, and interagency reimbursable agreements will be paid via this form. Most of the information on the form is populated by the Commission. The respondent will complete the Payer FCC Registration Number (FRN) and indicate their method of payment, i.e., credit card, check, wire transfer, Intra-Governmental Payment and Collection (IPAC), and Military Interdepartmental Purchase Request (MIPR). If paying by credit card, the respondent will indicate which credit card is being used, enter the credit card number, expiration date, and sign and date the form to authorize the charge.

Federal Communications Commission.
William F. Caton,
Deputy Secretary.

[FR Doc. 04-12166 Filed 5-27-04; 8:45 am]

BILLING CODE 6712-01-P